DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: NOAA Coastal Ocean Program Grants Proposal Application Package.

Form Number(s): None.

OMB Approval Number: 0648-0384.

Type of Request: Regular submission.

Burden Hours: 900.

Number of Respondents: 300.

Average Hours Per Response: Application summary, 30 minutes; annual progress report, 5 hours; project final report, 10 hours.

Needs and Uses: The Coastal Ocean Program (COP) provides direct financial assistance for the management of coastal ecosystems. Applicants for assistance are required to provide information in addition to the Standard Forms and grant application information. The additional requirement is a COP project summary. Successful applicants must file annual progress reports and a project final report in accordance with COP format.

Affected Public: Not-for-profit institutions; individuals or households; business or other for-profit organizations; State, Local or Tribal Government.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 6, 2006.
Gwellnar Banks,
Management Analyst, Office of the Chief Information Officer.

[FR Doc. E6-10901 Filed 7-11-06; 8:45 am]

BILLING CODE 3510-22-P